DEPARTMENT OF COMMERCE

National Oceanic and Atmospheric Administration

50 CFR Part 600 and 648

[Docket No. 051130316-6047-02; I.D. 110905C]

RIN 0648-AT21

Fisheries of the Northeastern United States; Atlantic Herring Fishery; 2006 Specifications

AGENCY: National Marine Fisheries Service (NMFS), National Oceanic and Atmospheric Administration (NOAA), Commerce.

ACTION: Final rule; 2006 Atlantic herring specifications.

SUMMARY: NMFS announces final specifications for the 2006 fishing year for the Atlantic herring fishery. The intent of this final rule is to promote the development and conservation of the herring resource.

DATES: Effective April 3, 2006, through December 31, 2006.

ADDRESSES: Copies of supporting documents, including the Environmental Assessment, Regulatory Impact Review, Initial Regulatory Flexibility Analysis (EA/RIR/IRFA), and Essential Fish Habitat Assessment are available from Paul J. Howard, Executive Director, New England Fishery Management Council, 50 Water Street, Mill 2, Newburyport, MA 01950. The specifications document is also accessible via the Internet at http://www.nero.noaa.gov. The Final Regulatory Flexibility Analysis (FRFA)consists of the IRFA, public comments and responses contained in this final rule, and the summary of impacts and alternatives contained in this final rule. Copies of the small entity compliance guide are available from Patricia A. Kurkul, Regional Administrator, Northeast Region, National Marine Fisheries Service, One Blackburn Drive, Gloucester, MA 01930 2298.

FOR FURTHER INFORMATION CONTACT: Eric Jay Dolin, Fishery Policy Analyst, 978-281-9259, e-mail at eric.dolin@noaa.gov, fax at 978-281-9135.

SUPPLEMENTARY INFORMATION:

Background

Proposed 2006 specifications were published on December 15, 2005 (70 FR 74285), with public comment accepted through January 17, 2006. These final specifications are unchanged from those that were proposed. A complete discussion of the development of the specifications appears in the preamble to the proposed rule and is not repeated here.

2006 Final Initial Specifications

The following specifications are established by this action: Allowable biological catch (ABC), optimum yield (OY), domestic annual harvest (DAH), domestic annual processing (DAP), total foreign processing (JVPt), joint venture processing (JVP), internal waters processing (IWP), U.S. at-sea processing (USAP), border transfer (BT), total allowable level of foreign fishing (TALFF), and total allowable catch (TAC) for each management area and subarea.

Specifications and Area TACs for the 2006 Atlantic Herring Fishery
Specification | Allocation (mt)
ABC | 220,000
OY | 150,000
DAH | 150,000
DAP | 146,000
JVPt | 0
JVP | 0
IWP | 0
USAP | 20,000 (Areas 2 and 3 only)
BT | 4,000
TALFF | 0
Reserve | 0
TAC - Area 1A | 60,000 (January 1-May 31, landings cannot exceed 6,000)
TAC - Area 1B | 10,000
TAC - Area 2 | 30,000 (No Reserve)
TAC - Area 3 | 50,000

Comments and Responses

There were four comments received. Commenters included Garden State Seafood Association, Atlantic Pelagic Seafood, one fisherman, and one other individual.

Comment 1: One commenter supported setting OY at 180,000 mt, and TALFF at zero, as recommended last year by the New England Fishery Management Council (Council).

Response: Based on past performance of the fishery, NMFS finds that the recommendation to set DAH at 150,000 mt is appropriate. TALFF is that portion of the OY of a fishery that will not be harvested by vessels of the United States, thus, TALFF is set at zero.

Comment 2: One commenter stated that USAP should be set at zero, as the Council recommended last year.

Response: Setting USAP at zero would inappropriately favor one segment of the U.S. processing sector over another, without any justifiable reasons. Landings from Areas 2 and 3 (where USAP is being authorized, as in previous years) have been considerably lower than the allocated TACs for each of the past several years. USAP could provide an additional outlet for U.S. harvesters, particularly those who operate vessels that do not have refrigerated seawater systems (RSW) to maintain catch quality for delivery to onshore processors. Such vessels could offload product to USAP vessels near the fishing areas, increasing the benefits to the U.S. industry. Given the significant gap between the DAH and recent landings in this fishery, the allocation of 20,000 mt for USAP should not restrict either the operation or the expansion of the shoreside processing facilities.

Comment 3: One commenter urged NMFS to closely monitor the needs of the fleet and consider industry requests for inseason adjustments to USAP and Area 2/3 TACs.

Response: NMFS agrees that it will be important to closely monitor herring landings in 2006 so that an in-season adjustment, if necessary, can be implemented. NMFS will utilize all available data sources and landings projection techniques to identify the need for such an adjustment.

Classification

This action is authorized by 50 CFR part 648 and has been determined to be not significant for purposes of Executive Order 12866.

Included in this final rule is the FRFA prepared pursuant to 5 U.S.C. 604(a). The FRFA incorporates the discussion that follows, the comments and responses to the proposed rule, and the IRFA and other analyses completed in support of this action. No comments were received on the IRFA. The FRFA uses the fishing year 2003 for comparison purposes because the analysis that this action is based on was completed in 2004. At that point, the Council voted to maintain the 2005 specifications for 2006, unless stock and fishery conditions changed substantially. As described in the proposed rule for this action, NMFS concurred with the Council's decision as to maintaining the specifications. Therefore, the analysis done in 2004, to establish the potential for two-year specifications, is what is used below. A copy of the IRFA is available from the Council(see ADDRESSES). A summary of the analysis follows:

Statement of Objective and Need

A description of the reasons why this action is being considered, and the objectives of and legal basis for this action, is contained in the preamble to the proposed rule and is not repeated here.

Description and Estimate of Number of Small Entities to Which the Rule Will Apply

During the 2003 fishing year, 154 vessels landed herring, 38 of which averaged more than 2,000 lb (907 kg) of herring per trip. There are no large entities, as defined in section 601 of the RFA, participating in this fishery. Therefore, there are no disproportionate economic impacts between large and small entities.

Description of Projected Reporting, Recordkeeping, and Other Compliance Requirements

This action does not contain any new collection-of-information, reporting, recordkeeping, or other compliance requirements. It does not duplicate, overlap, or conflict with any other Federal rules.

Minimizing Significant Economic Impacts on Small Entities

Impacts were assessed by the Council and NMFS by comparing the measures to the Atlantic herring landings made in 2003. The specifications are not expected to produce a negative economic impact to vessels prosecuting the fishery because they allow for landings levels that are significantly higher than the average landings achieved by the fishery in recent years. The 2006 specifications allow for incremental growth in the industry, while taking into consideration biological uncertainty.

The specification of OY and DAH is 150,000 mt for 2006. At this level, there could be an increase of up to 50,000 mt in herring landings, or $7,150,000 in revenues, based on an average price of $143/mt. This could allow individual vessels to increase their profitability under the 2006 specifications, depending on whether or not new vessels enter the fishery (the herring fishery will remain an open-access fishery for the 2006 fishing year). The magnitude of economic impacts related to the 146,000-mt specification of DAP will depend on the shoreside processing sector's ability to expand markets and increase capacity to handle larger amounts of herring during 2006.

The potential loss associated with eliminating the JVPt allocation (20,000 mt for 2003 and 2004) could approximate $2.9 million (based on an average price of $143/mt) if all of the 20,000-mt allocation would have been utilized (10,000 mt for JVP and 10,000 mt for IWP). However, very little of the 10,000-mt JVP allocation was utilized in 2002 and 2003, and no JVP activity occurred during the 2004 fishing year. The Council received no indication that demand exists for the JVP allocation in 2006. As a result, no substantial economic impacts are expected from reducing the JVP allocation to 0 mt in 2006, as vessels that sold fish in the past to JVP vessels could sell to U.S. processors.

The Area 1A and 1B TACs of 60,000 mt and 10,000 mt, respectively, have been unchanged since the 2000 fishery. In 2002 and 2003, the Area 1A TAC for the directed herring fishery was fully utilized and is expected to be fully utilized for the 2006 fishery. Therefore, no change is expected in profitability of vessels as a result of the 2006 Area 1A specification. Since only 4,917 mt of herring were harvested in Area 1B in 2003, the 2006 specification of 10,000 mt should allow for increased economic benefits to individual vessels prosecuting the fishery in this management area. The potential economic gains associated with allocating 20,000 mt for USAP could approximate $2.9 million (based on an average price of $143/mt) if all of the 20,000-mt allocation is utilized in 2006.

The Council analyzed four alternatives for OY and the distribution of TACs. One alternative would have retained the specifications implemented during the 2003 and 2004 fishing years, which would have maintained the OY at 180,000 mt. This OY is still roughly 80 percent greater than the average historical landings for this fishery and therefore, that level of OY would not pose a constraint on the fishery. The three other alternatives considered by the Council would set the OY at 150,000 mt. This is still roughly 50-percent greater than the average historical landings for this fishery, and, therefore, that level of OY would not pose a constraint on the fishery. Each of the alternatives that would set the OY at 150,000 mt would establish varying levels for the area TACs.

One alternative would have established the following TACs: Area 1A, 60,000 mt; Area 1B, 10,000 mt; Area 2, 20,000 mt; and Area 3, 60,000 mt. The only area TAC that would be lower than 2004 under this option is the Area 2 TAC. The most recent year in which the landings from this area were greater than 20,000 mt (the proposed TAC) was 2000 (27,198 mt). The average landings from 2001 2003 were 14,300 mt, with 2003 landings at 16,079 mt. Under current market conditions, the new TAC may become constraining if the fishery in 2006 is similar to that in 2000. If this is the case, then the Area 2 TAC fishing season could end before the end of the year, creating a potential economic constraint on the fishery, especially if vessels are forced to travel farther (increased steaming time) to harvest in Area 3.

Another alternative considered would have established the following TACs: Area 1A, 45,000 mt; Area 1B, 10,000 mt; Area 2, 35,000 mt; and Area 3, 60,000 mt. With a 15,000-mt decrease in the combined Area 1 TACs, the economic impact of this option could be relatively large on vessels in the fishery that depend on herring in Area 1A, especially if those vessels are not able to move to other areas to obtain fish. Even if vessels could fish in other areas, their operating costs would be increased because of increased steaming time. An Area 2 TAC of 35,000 mt under this alternative would not be constraining, given recent landings history.

The final alternative considered would have established the following TACs: Area 1A, 55,000 mt; Area 1B, 5,000 mt; Area 2, 30,000 mt; and Area 3, 60,000 mt. With a 10,000-mt decrease in the combined Area 1 TACs, the impact of this alternative would be very similar to the impact of the prior alternative, although not as severe. An Area 2 TAC of 30,000 mt under this alternative would not be constraining, given recent landings history.

Small Entity Compliance Guide

Section 212 of the Small Business Regulatory Enforcement Fairness Act of 1996 states that, for each rule, or group of related rules, for which an agency is required to prepare a FRFA, the agency shall publish one or more guides to assist small entities in complying with the rule and shall designate such publications as “small entity compliance guides.” The agency shall explain the actions a small entity is required to take to comply with a rule or group of rules. As part of this rulemaking process, a small entity compliance guide will be sent to all holders of permits issued for the herring fishery. In addition, copies of this final rule and guide (i.e., permit holder letter) are available from the Regional Administrator (see ADDRESSES) and may be found at the following web site: http://www.nero.noaa.gov.

Authority: 16 U.S.C. 1801 et seq.

Dated: February 27, 2006.
William T. Hogarth,
Assistant Administrator for Fisheries, National Marine Fisheries Service.

[FR Doc. 06-1996 Filed 3-2-06; 8:45 am]

BILLING CODE 3510-22-S